DEPARTMENT OF HOUSING AND URBAN DEVELOPMENT

[Docket No. FR-7066-N-02]

60-Day Notice of Proposed Information Collection: Emergency Solutions Grant Data Collection, OMB Control No.: 2506-0089

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 1, 2023.

ADDRESSES: Interested persons are invited to submit comments regarding this proposal. Written comments and recommendations for the proposed information collection can be sent within 60 days of publication of this notice to OIRA_submission@omb.eop.gov or www.reginfo.gov/public/do/PRAMain. Find this particular information collection by selecting “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000; telephone 202-402-5535 for Anna (this is not a toll-free number) or email at Anna.P.Guido@hud.gov for a copy of the proposed forms or other available information.

FOR FURTHER INFORMATION CONTACT: Norm Suchar, Director, Office of Special Needs Assistance Programs, Office of Community Planning and Development, Department of Housing and Urban Development, 451 7th Street SW, Room 7262, Washington, DC 20410. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A.

A. Overview of Information Collection

Title of Information Collection: Emergency Solutions Grants Program Recordkeeping Requirements.

OMB Approval Number: 2506-0089.

Type of Request: Extension.

Form Number: N/A.

Description of the need for the information and proposed use: This submission is to request an revision of a currently approved collection for the reporting burden associated with program and recordkeeping requirements that Emergency Solutions Grants (ESG) program recipients will be expected to implement and retain. This submission is limited to the recordkeeping burden under the ESG program. To see the regulations for the ESG program and applicable supplementary documents, visit the ESG page on the HUD Exchange at https://www.hudexchange.info/programs/esg/. The statutory provisions and the implementing interim regulations (also found at 24 CFR 576) that govern the program require these recordkeeping requirements.

Respondents: ESG recipient and subrecipient lead persons.

Estimated Number of Respondents: The ESG record keeping requirements include 18 distinct activities. Each activity requires a different number of respondents ranging from 20 to 78,000. There are 78,000 unique respondents.

Estimated Number of Responses: 546,116.

Frequency of Response: Each activity also has a unique frequency of response, ranging from once annually to monthly.

Average Hours per Response: Each activity also has a unique associated number of hours of response, ranging from 15 minutes to 12 hours and 45 minutes.

Total Estimated Burdens: The total number of hours needed for all reporting is 387,522 hours.

Information collection | Number of respondents | Frequency of response | Responses per annum | Burden hour per response | Annual burden hours | Hourly cost per response | Annual cost
576.100(b)(2) Emergency Shelter and Street Outreach Cap | 360 | 1 | 360 | 1 | 360 | 45.14 | 16,250.40
576.400(a) Consultation with Continuums of Care | 360 | 1 | 360 | 6 | 2,160.00 | 45.14 | 97,502.40
576.400(b) Coordination with other Targeted Homeless Services | 2,360.00 | 1 | 2,360.00 | 8 | 18,880.00 | 45.14 | 852,243.20
576.400(c) System and Program Coordination with Mainstream Resources | 2,360.00 | 1 | 2,360.00 | 16 | 37,760.00 | 45.14 | 1,704,486.40
576.400(d) Centralized or Coordinated Assessment | 2,000.00 | 1 | 2,000.00 | 3 | 6,000.00 | 45.14 | 270,840.00
576.400(e) Written Standards for Determining the Amount of Assistance | 808 | 1 | 808 | 5 | 4,040.00 | 45.14 | 182,365.60
576.400(f) Participation in HMIS | 78,000.00 | 1 | 78,000.00 | 0.5 | 39,000.00 | 45.14 | 1,760,460.00
576.401(a) Initial Evaluation | 50,000.00 | 1 | 50,000.00 | 1 | 50,000.00 | 45.14 | 2,257,000.00
576.401(b) Recertification | 20,000.00 | 2 | 40,000.00 | 0.5 | 20,000.00 | 45.14 | 902,800.00
576.401(d) Connection to Mainstream Resources | 78,000.00 | 3 | 234,000.00 | 0.25 | 58,500.00 | 45.14 | 2,640,690.00
576.401(e) Housing retention plan | 50,000.00 | 1 | 50,000.00 | 0.75 | 37,500.00 | 45.14 | 1,692,750.00
576.402 Terminating Assistance | 808 | 1 | 808 | 4 | 3,232.00 | 45.14 | 145,892.48
576.403 Habitability review | 52,000.00 | 1 | 52,000.00 | 0.6 | 31,200.00 | 45.14 | 1,408,368.00
576.405 Homeless Participation | 2,360.00 | 12 | 28,320.00 | 1 | 28,320.00 | 45.14 | 1,278,364.80
576.500 Recordkeeping Requirements | 2,360.00 | 1 | 2,360.00 | 12.75 | 30,090.00 | 45.14 | 1,358,262.60
576.501(b) Remedial Actions | 20 | 1 | 20 | 8 | 160 | 45.14 | 7,222.40
576.501(c) Recipient Sanctions | 360 | 1 | 360 | 12 | 4,320.00 | 45.14 | 195,004.80
576.501(c) Subrecipient Response | 2,000.00 | 1 | 2,000.00 | 8 | 16,000.00 | 45.14 | 722,240.00
Total | 78,000.00 |  | 546,116.00 |  | 387,522.00 |  | 17,492,743.08

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Principal Deputy Assistant Secretary for Community Planning and Development, Marion McFadden, having reviewed and approved this document, is delegating the authority to electronically sign this document to submitter, Aaron Santa Anna, who is the Federal Register Liaison for HUD, for purposes of publication in the Federal Register.

Aaron Santa Anna,
Federal Register Liaison, Department of Housing and Urban Development.

[FR Doc. 2023-04072 Filed 2-27-23; 8:45 am]

BILLING CODE 4210-67-P